DEPARTMENT OF HOUSING AND URBAN DEVELOPMENT

[FR-6452-N-02]

Exhibitors Sought for Innovative Housing Showcase 2024: Extension of Proposal Submission Deadline

AGENCY: Office of the Assistant Secretary for Policy Development and Research, Department of Housing and Urban Development (HUD).

ACTION: Notice; extension of proposal submission deadline.

SUMMARY: On February 28, 2024, the Department of Housing and Urban Development (HUD) published in the Federal Register a document entitled, “Exhibitors Sought for Innovative Housing Showcase 2024.” The document sought proposals for exhibits at the 2024 Innovative Housing Showcase, a public event to raise awareness of innovative housing designs and technologies that have the potential to increase housing supply, lower the cost of construction, and/or reduce housing expenses for owners and renters. The original notice provided for a 30-day period during which proposals would be accepted, which ended on March 29, 2024. HUD has determined that an extension of the proposal submission period until April 15, 2024, is appropriate to allow additional interested exhibitors to submit proposals.

DATES: All proposals must be received no later than April 15, 2024. Proposals will be accepted and reviewed on a rolling basis until April 15, 2024, or until HUD reaches capacity for exhibitor space on the National Mall, whichever comes sooner. HUD encourages early submission of proposals.

ADDRESSES: Proposals must be in writing and submitted via email to housingshowcase@hud.gov. Individuals who do not have internet access may submit proposals to the Office of Policy Development and Research, Affordable Housing Research and Technology, U.S. Department of Housing and Urban Development, 451 7th Street SW, Room 8134, Washington, DC 20410.

FOR FURTHER INFORMATION CONTACT: Michael Blanford, Research Engineer, U.S. Department of Housing and Urban Development, Office of Policy Development and Research, 451 7th St. SW, Washington, DC 20410, telephone number 202-402-5728 (this is not a toll-free number). HUD welcomes and is prepared to receive calls from individuals who are deaf or hard of hearing, as well as individuals with speech and communication disabilities. To learn more about how to make an accessible telephone call, please visit: https://www.fcc.gov/consumers/guides/telecommunications-relay-service-trs. Individuals with questions may also email housingshowcase@hud.gov and in the subject line write “2024 Showcase Questions.”

SUPPLEMENTARY INFORMATION: On February 28, 2024, the Department of Housing and Urban Development (HUD) published in the Federal Register a document entitled, “Exhibitors Sought for Innovative Housing Showcase 2024.” 89 FR 14677. That notice solicited proposals for exhibits at HUD's 2024 Innovative Housing Showcase, a public event to raise awareness of innovative housing designs and technologies that have the potential to increase housing supply, lower the cost of construction, and/or reduce housing expenses for owners and renters. That notice provided for a deadline of March 29, 2024, for potential exhibitors to submit their proposals to HUD. HUD has determined that additional time is appropriate for additional interested exhibitors to submit proposals. Through this notice, HUD is extending the deadline to submit proposals to April 15, 2024. For information on the Showcase, the venue for the showcase (the National Mall), and exhibit and proposal requirements, please refer to the originally published notice at 89 FR 14677.

Proposals should be limited to 1-2 pages.

In accordance with the Paperwork Reduction Act of 1995, an agency may not conduct or sponsor, and a person is not required to respond to, a collection of information, unless the collection displays a currently valid OMB control number. The information collection described above to collect proposals for the Showcase has been approved by the Office of Management and Budget (OMB) under the Paperwork Reduction Act of 1995 (44 U.S.C. 3501-3520) and assigned OMB control number 2528-0346.

Todd M. Richardson,
General Deputy Assistant Secretary for Policy Development and Research.

[FR Doc. 2024-07424 Filed 4-4-24; 11:15 am]

BILLING CODE 4210-67-P